ENVIRONMENTAL PROTECTION AGENCY

[EPA-R08-OAR-2023-0412; FRL-11808-01-OMS]

Agency Information Collection Activities; Submission to the Office of Management and Budget for Review and Approval; Comment Request; Federal Implementation Plan for Oil and Natural Gas Well Production Facilities, Fort Berthold Indian Reservation (Mandan, Hidatsa, and Arikara Nation), North Dakota (Renewal)

AGENCY: Environmental Protection Agency (EPA).

ACTION: Notice.

SUMMARY: The Environmental Protection Agency (EPA) has submitted an information collection request (ICR), Federal Implementation Plan for Oil and Natural Gas Well Production Facilities, Fort Berthold Indian Reservation (Mandan, Hidatsa, and Arikara Nation), North Dakota. (EPA ICR Number 2478.04, OMB Control Number 2008-0001) to the Office of Management and Budget (OMB) for review and approval in accordance with the Paperwork Reduction Act.This is a proposed extension of the ICR, which is currently approved through March 31, 2024. Public comments were previously requested via the Federal Register on September 13, 2023 during a 60-day comment period. This notice allows for an additional 30 days for public comments.

DATES: Comments may be submitted on or before April 5, 2024.

ADDRESSES: Submit your comments, referencing Docket ID Number EPA-R08-OAR-2023-0412 to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Adam Eisele, U.S. Environmental Protection Agency, Region 8, Air and Radiation Division, (Mail Code 8ARD-PM), 1595 Wynkoop Street, Denver, Colorado 80202-1129, telephone number: (303) 312-6246, email address: eisele.adam@epa.gov.

SUPPLEMENTARY INFORMATION: This is a proposed extension of the ICR, which is currently approved through March 31, 2024. An agency may not conduct or sponsor and a person is not required to respond to a collection of information unless it displays a currently valid OMB control number.

Public comments were previously requested via the Federal Register on September 13, 2023 during a 60-day comment period (88 FR 62781). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers information collection requirements in the final Federal Implementation Plan (FIP) for Oil and Natural Gas Well Production Facilities; Fort Berthold Indian Reservation (Mandan, Hidatsa, and Arikara Nation), North Dakota (40 CFR part 49, subpart K, §§ 49.4161 through 49.4168), herein referred to as the FBIR FIP. In general, owners or operators are required to: (1) conduct certain monitoring; (2) keep specific records to be made available at the EPA's request; and (3) to prepare and submit an annual report (40 CFR part 49, subpart K, §§ 49.4166 through 49.4168). These records and reports are necessary for the EPA Administrator (or the Tribal agency if delegated), for example, to: (1) confirm compliance status of stationary sources; (2) identify any stationary sources not subject to the requirements and identify stationary sources subject to the regulations; and (3) ensure that the stationary source control requirements are being achieved. All information submitted to us pursuant to the recordkeeping and reporting requirements for which a claim of confidentiality is made is safeguarded according to the agency policies set forth in 40 CFR part 2, subpart B.

Form numbers: None.

Respondents/affected entities: Owners or operators of oil and natural gas well production facilities on the Fort Berthold Indian Reservation (Mandan, Hidatsa, and Arikara Nation), North Dakota.

Respondent's obligation to respond: Mandatory (42 U.S.C. 7414).

Estimated number of respondents: 9,007 (total).

Frequency of response: Annually.

Total estimated burden: 137,279 hours (per year). Burden is defined at 5 CFR 1320.03(b).

Total estimated cost: $41,056,708 (per year), which includes $40,772,356 annualized capital and operation and maintenance costs.

Changes in the estimates: There is an average increase of 25,279 hours in the total estimated respondent burden compared with the ICR currently approved by OMB. This increase is due to anticipated industry growth projected to occur over the next 3-year period of this ICR.

Courtney Kerwin,
Director, Regulatory Support Division.

[FR Doc. 2024-04719 Filed 3-5-24; 8:45 am]

BILLING CODE 6560-50-P